DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of four individuals and three entities whose property and interests in property have been blocked pursuant to the Foreign Narcotics Kingpin Designation Act (“Kingpin Act”) (21 U.S.C. 1901-1908, 8 U.S.C. 1182).

DATES: The designation by the Director of OFAC of the four individuals and three entities identified in this notice pursuant to section 805(b) of the Kingpin Act is effective on February 1, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On February 1, 2012, the Director of OFAC designated the following four individuals and three entities whose property and interests in property are blocked pursuant to section 805(b) of the Kingpin Act:

Individuals:

1. AKBULUT, Cerkez (a.k.a. MURAT, Cernit; a.k.a. MURAT, Altig), DOB 18 Nov 1965; Alt. DOB 31 Oct 1971; POB Bingol, Turkey; Alt. POB Deric, Turkey; citizen Turkey; Passport TR-J 565114 (Turkey) issued 10 Sep 1997; Driver's License No. 04900377 (Moldova) issued 2 Jul 2004; Stateless Person Passport C000375 (Moldova) issued 9 Sep 2000; Refugee ID Card A88000043 (Moldova) issued 16 Dec 2005; Stateless Person ID Card CC00200261 (Moldova) issued 9 Sep 2000 (individual) [SDNTK].

2. BOZTEPE, Omer, DOB 01 Jan 1966; POB Bozova, Sanliurfa, Turkey; nationality Turkey; (individual) [SDNTK].

3. GELERI, Zeyneddin, c/o MEGA GROUP S.R.L.; c/o GELERI IMPORT EXPORT S.R.L.; DOB 13 Oct 1973; Alt. DOB 13 Oct 1977; POB Mardin, Turkey; citizen Turkey; nationality Turkey (individual) [SDNTK].

4. GELERI, Omer, c/o GELRO IMPEX S.R.L.; c/o MEGA GROUP S.R.L.; Prundeni, Valcea, Romania; DOB 01 Mar 1946; POB Mardin, Turkey; nationality Turkey; CNP (Personal Numerical Code) 7460301380011 (Romania); Romanian Permanent Resident CAN 0125477 (Romania) issued 13 Jul 2007 (individual) [SDNTK].

Entities:

1. GELERI IMPORT EXPORT S.R.L., 3 Str. Clinceni Depozitul, C10, Ilfov 70000, Romania; Romanian C.R. J23/242/2004 (Romania) [SDNTK].

2. GELRO IMPEX S.R.L., Cart. Cring, Bloc 2C, Ap. 16, Municipiul Buzau, Buzau 120164, Romania; C.R. No. J10/623/1997 (Romania); Fiscal Code 9896460 (Romania) [SDNTK].

3. MEGA GROUP S.R.L., No. 3, Commune Bragadiru, Clinceni, Ilfov 77060, Romania; C.R. No. J23/863/2002 (Romania); Romanian Tax Registration 14637977 (Romania) [SDNTK].

Dated: February 1, 2012.
Adam J. Szubin,
Director, Office of Foreign Assets Control.

[FR Doc. 2012-2729 Filed 2-6-12; 8:45 am]

BILLING CODE 4810-AL-P